INTERNATIONAL TRADE COMMISSION

[Investigation No. 332-345]

Shifts in U.S. Merchandise Trade 2003

AGENCY: United States International Trade Commission.

ACTION: Opportunity to submit written statements in connection with the 2003 report.

SUMMARY: The Commission has prepared and published annual reports on U.S. trade shifts in selected industries/commodity areas under investigation No. 332-345 since 1993. The Commission plans to publish the 2003 report in July 2004, which will cover shifts in U.S. trade in 2003 compared with trade in 2002. The Commission is considering changes to the structure of next year's report, such as converting exclusively to a web-based format that would enable timely updates of selected data and analysis on a periodic or semiannual basis with added focus on sectoral issues. This new format would include links to ITC resources allowing quick access to analyses and data, as well as links to other organizations that have related information. Comments and suggestions regarding the 2003 report to be published in July 2004 are welcome in written submissions as specified below.

The latest version of the report covering 2002 data (USITC Publication 3611, July 2003) may be obtained from the USITC's Internet server (http://www.usitc.gov). A printed report may be requested by contacting the Office of the Secretary at 202-205-2000 or by fax at 202-205-2104. Interested parties may also provide comments by returning the postage-paid “Reader Satisfaction Survey” located inside the front cover of the report issued in July 2003, or by downloading the survey form and business reply mailer for this report from the Commission's Web site.

EFFECTIVE DATE: August 1, 2003.

FOR FURTHER INFORMATION CONTACT: Questions about the trade shifts report may be directed to the project leader, Judith-Anne Webster, Office of Industries (202-205-3489). For information on the legal aspects, please contact William Gearhart, Office of General Counsel (202-205-3091). The media should contact Margaret O'Laughlin, Public Affairs Officer (202-205-1819). Hearing impaired individuals are advised that information on this matter can be obtained by contacting the TDD terminal on 202-205-2648.

Background

The initial notice of institution of this investigation was published in the Federal Register of September 8, 1993 (58 FR 47287). The Commission expanded the scope of this investigation to cover services trade in a separate report, which it announced in a notice published in the Federal Register of December 28, 1994 (59 FR 66974). The merchandise trade report has been published in the current series under investigation No. 332-345 annually since September 1993.

As in past years, each report will summarize and provide analyses of the major trade developments that occurred in the preceding year. The reports will also provide summary trade information and basic statistical profiles of about 259 industry/commodity groups and 59 industry/commodity subgroups.

Written Submissions

No public hearing is planned. However, interested persons are invited to submit written comments or suggestions concerning the July 2004 report. Commercial or financial information which a submitter desires the Commission to treat as confidential must be provided on separate sheets of paper, each clearly marked “Confidential Business Information” at the top. All submissions requesting confidential treatment must conform with the requirements of section 201.6 of the Commission's Rules and Practice and Procedure (19 CFR 201.6). All written submissions, except for confidential business information, will be made available in the Office of the Secretary to the Commission for inspection by interested persons. To be assured of consideration by the Commission, written statements relating to the Commission's report should be submitted to the Commission at the earliest practical date and should be received no later than the close of business on December 29, 2003. All submissions should be addressed to the Secretary, United States International Trade Commission, 500 E Street, SW, Washington, DC 20436. The Commission's rules do not authorize filing submissions with the Secretary by facsimile or electronic means, except to the extent permitted by section 201.8 of the Commission's Rules (19 CFR 201.18)(see Handbook for Electronic Filing Procedures, ftp://FTP.usitc.gov/pub/reports/electronic_filing_handbook.pdf).

Issued: August 1, 2003.
By order of the Commission.
Marilyn R. Abbott,
Secretary.

[FR Doc. 03-20139 Filed 8-6-03; 8:45 am]

BILLING CODE 8040-01-P